DEPARTMENT OF THE INTERIOR

Fish and Wildlife Service

[FWS-R1-ES-2008-N0115; 10120-1113-0000-C2]

Revised Recovery Plan for Sihek or Guam Micronesian Kingfisher (Halcyon cinnamomina cinnamomina)

AGENCY: Fish and Wildlife Service, Interior.

ACTION: Notice of document availability.

SUMMARY: The U.S. Fish and Wildlife Service announces the availability of the Revised Recovery Plan for the Sihek or Guam Micronesian Kingfisher (Halcyon cinnamomina cinnamomina). This subspecies, which was found only on the island of Guam, was federally listed as endangered in 1984.

ADDRESSES: Copies of the recovery plan are available by request from the U.S. Fish and Wildlife Service, Pacific Islands Fish and Wildlife Office, 300 Ala Moana Boulevard, Room 3-122, Box 50088, Honolulu, Hawaii 96850 (phone: 808-792-9400). An electronic copy of the recovery plan is also available at http://endangered.fws.gov/recovery/index.html#plans. Printed copies of the recovery plan will be available for distribution in 4 to 6 weeks.

FOR FURTHER INFORMATION CONTACT: Fred Amidon, Fish and Wildlife Biologist, Pacific Islands Fish and Wildlife Office, at the above address.

SUPPLEMENTARY INFORMATION:

Background

Recovery of endangered or threatened animals and plants is a primary goal of the Endangered Species Act (Act) (16 U.S.C. 1531 et seq.) and our endangered species program. Recovery means improvement of the status of listed species to the point at which listing is no longer required under the criteria in section 4(a)(1) of the Act. Recovery plans describe actions considered necessary for the conservation of the species, establish criteria for downlisting or delisting listed species, and estimate time and cost for implementing the measures needed for recovery.

The Act requires the development of recovery plans for endangered or threatened species unless such a plan would not promote the conservation of the species. Recovery plans help guide the recovery effort by describing actions considered necessary for the conservation of the species, and estimating time and cost for implementing the measures needed for recovery.

Section 4(f) of the Act requires that public notice and an opportunity for public review and comment be provided during recovery plan development. In fulfillment of this requirement, the Draft Revised Recovery Plan for the Sihek or Guam Micronesian Kingfisher (Halcyon cinnamomina cinnamomina) was made available for public comment from April 28 to June 28, 2004 (69 FR 23210). Information provided during the public comment period was considered in our preparation of this revised recovery plan, and is summarized in an appendix to the plan.

The sihek, or Guam Micronesian kingfisher, is federally listed as endangered and is also listed as endangered by the Territory of Guam. Sihek are endemic to the island of Guam in the Mariana archipelago. Sihek were last observed in the wild on Guam in 1988 and are now believed to be extirpated from the wild. Currently, sihek are represented by a captive population of 100 individuals in 17 captive propagation facilities in the mainland United States and Guam. Sihek utilized a wide variety of habitats including limestone forest, strand forest, ravine forest, agricultural forest, secondary forest, and forest openings. However, mature forests with appropriate nest sites may be an important component of sihek reproductive activities.

Habitat degradation and loss, human persecution, contaminants, and introduced species such as disease organisms, cats (Felis catus), rats (Rattus spp.), black drongos (Dicrurus macrocercus), monitor lizards (Varanus indicus), and brown tree snakes (Boiga irregularis) have all been suggested as factors in the population decline of this subspecies. However, predation by the brown tree snake is believed to be the overriding factor in the extirpation of sihek. Factors that continue to prevent the recovery of the sihek include poor reproductive success and high mortality in the captive population and the continued presence of brown tree snakes on Guam. Recovery actions in this revised plan are designed to address threats to the sihek to achieve the recovery objectives of downlisting to threatened status and then eventually delisting (removing from the list of endangered and threatened species).

To prevent the extinction of the sihek, the highest priority recovery tasks are to increase the size of the captive population, control brown tree snakes on Guam, and reestablish sihek in the wild on Guam. Increasing the captive population is to be accomplished by expanding the captive propagation program for the subspecies on Guam, genetic management, increasing reproductive success of the captive population, and decreasing juvenile and adult mortality in the captive population. Ideally, reestablishing sihek in the wild on Guam will occur after the captive population has increased further and optimal numbers of sihek are available for release to keep the captive population viable. However, if efforts to either increase the captive population or control brown tree snakes are not successful, it may be necessary to reevaluate the recovery strategy for the sihek. Reintroduction to Guam will require a thorough reintroduction program and extensive predator control efforts, especially brown tree snake control. Once sihek have been reestablished in the wild, expanding predator control efforts to additional areas, habitat protection and restoration, and monitoring for additional threats to the subspecies would receive increased focus. Additionally, throughout the recovery program, efforts should be made to increase public awareness of sihek recovery needs and to coordinate and monitor recovery efforts.

The sihek may be downlisted from endangered to threatened when the following criteria are met: (1) Sihek occur in 2 subpopulations (one in northern Guam and one in southern Guam) of at least 500 adults each; (2) both subpopulations are either stable or increasing based on quantitative surveys or demographic monitoring that demonstrate an average intrinsic population growth rate (lambda) of greater than 1.0 over a period of at least 5 consecutive years; (3) sufficient sihek habitat, based on quantitative estimates of territory and home range size, is protected and managed to achieve criteria 1 and 2 above; and (4) brown tree snakes and other introduced predators are controlled over 5 consecutive years at a level sufficient to achieve criteria 1 and 2 above.

The sihek may be removed from the Federal list of endangered and threatened species when the following criteria are met: (1) Sihek occur in 2 subpopulations (one in northern Guam and one in southern Guam) of at least 1,000 adults each; (2) both subpopulations are either stable or increasing based on quantitative surveys or demographic monitoring that demonstrate an average intrinsic population growth rate (lambda) of greater than 1.0 over a period of at least 10 consecutive years; (3) sufficient sihek habitat, based on quantitative estimates of territory and home range size, is protected and managed to achieve criteria 1 and 2 above; and (4) brown tree snakes and other introduced predators are controlled over 10 consecutive years at a level sufficient to achieve criteria 1 and 2 above.

Authority: The authority for this action is section 4(f) of the Endangered Species Act, 16 U.S.C. 1533(f).

Dated: October 3, 2008.
David J. Wesley,
Acting Regional Director, Region 1, U.S. Fish and Wildlife Service.

[FR Doc. E8-27088 Filed 11-13-08; 8:45 am]

BILLING CODE 4310-55-P